DEPARTMENT OF HEALTH AND HUMAN SERVICES

Centers for Medicare & Medicaid Services

[Document Identifier: CMS-10003, CMS-901A and D, CMS-9044, and CMS-10099]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Notice of Denial of Medical Coverage (NDMC), and the Notice of Denial of Payment (NDP) and supporting regulations in 42 CFR 422.568; Use: Section 1852(g)(1)(B) of the Statute requires Medicare Health organizations (Medicare Advantage, cost, and Health Care Prepayment Plans) to provide determinations to deny coverage (i.e., medical services or payment) in writing and include a statement in understandable language of the reasons for the denial and a description of the reconsideration and appeals processes. These notices fulfill the regulatory requirement. Form Number: CMS-10003 (OMB#: 0938-0829); Frequency: Reporting: Yearly; Affected Public: Business or other for-profit and Not-for-profit institutions; Number of Respondents: 454; Total Annual Responses: 105,138; Total Annual Hours: 26285.

2. Type of Information Collection Request: Revision of a currently approved collection; Title of Information Collection: CMS Application for Federal Qualification (901A); CMS Medicare Agreement Application (901D) and Supporting Regulations in 42 CFR Section 417.143 and 422.6; Use: Prepaid health plans must meet certain regulatory requirements to be federally qualified health maintenance organizations or to enter into a contract with CMS to provide health benefits to Medicare beneficiaries. The application forms are used by CMS to collect information about a health plan to determine their compliance with federal regulations. Form Number: CMS-901A and D (OMB#: 0938-0470); Frequency: Reporting: Once; Affected Public: Business or other for-profit and Not-for-profit institutions; Number of Respondents: 55; Total Annual Responses: 55; Total Annual Hours: 2,200.

3. Type of Information Collection Request: Revision of a currently approved collection; Title of Information Collection: Medicare ESRD Exceptions; Use: This information is collected in accordance with section 2145 of the Omnibus Budget Reconciliation Act of 1981 and section 623 of the Medicare Prescription Drug Improvement and Modernization Act of 2003. End Stage Renal Disease (ESRD) facilities can file for an exception to its composite payment rate. CMS uses the information submitted to determine whether an ESRD facility qualifies for a rate increase and the amount of the increase. Form Number: CMS-9044 (OMB#: 0938-0296); Frequency: Reporting: Occasionally; Affected Public: Business or other for-profit and Not-for-profit institutions; Number of Respondents: 10; Total Annual Responses: 10; Total Annual Hours: 400.

4. Type of Information Collection Request: Extension of a currently approved information collection; Title of Information Collection: Review of National Coverage Determinations and Local Coverage Determinations and Supporting Regulations in 42 CFR 426.400 and 42 CFR 426.500; Use: Section 522 of the Benefits Improvement and Protection Act (BIPA) of 2000 requires the implementation of a process for the appeal of National Coverage Determinations (NCDs) and Local Coverage Determinations (LCDs). Sections 426.400 and 426.500, state that an aggrieved party may initiate a review of an LCD or NCD, respectively, by filing a written complaint. These sections also identify the information required in the complaint to qualify as an aggrieved party as defined in § 426.110, as well as the process and information needed for an aggrieved party to withdraw a complaint. The required documentation includes a copy of the written authorization to represent the beneficiary, if the beneficiary has a representative, and a copy of a written statement from the treating physician that the beneficiary needs a service that is the subject of the LCD. Form Number: CMS-10099 (OMB#: 0938-0911); Frequency: Reporting—On occasion; Affected Public: Individuals or Households; Number of Respondents: 1,040; Total Annual Responses: 1,040; Total Annual Hours: 4,160.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on March 27, 2007. CMS, Office of Strategic Operations and Regulatory Affairs, Division of Regulations Development—C, Attention: Bonnie L. Harkless, Room C4-26-05, 7500 Security Boulevard, Baltimore, Maryland 21244-1850.

Dated: January 19, 2007.
Michelle Shortt,
Director, Regulations Development Group, Office of Strategic Operations and Regulatory Affairs.

[FR Doc. E7-1124 Filed 1-25-07; 8:45 am]

BILLING CODE 4120-01-P